EQUAL EMPLOYMENT OPPORTUNITY COMMISSION

29 CFR Part 1611

Privacy Act Regulations

CFR Correction

In Title 29 of the Code of Federal Regulations, Parts 900 to 1899, revised as of July 1, 2014, on page 257, in § 1611.3, in paragraph (b)(3), the address “1801 L Street NW.” is corrected to read “131 M Street NE.”.

[FR Doc. 2015-14654 Filed 6-16-15; 8:45 am]

BILLING CODE 1505-01-D